DEPARTMENT OF JUSTICE

Notice of Lodging of Consent Decree Under the Clean Air Act

Notice is hereby given that on December 8, 2010, a proposed Consent Decree in United States of America and the Commonwealth of Kentucky v. Logan Aluminum, Inc., Case No. 1:10-cv-00177-TBR was lodged with the United States District Court for the Western District of Kentucky.

The proposed Consent Decree resolves claims of the United States and the Commonwealth of Kentucky, under the Clean Air Act (“CAA”), 42 U.S.C. 7412, and related provisions of the laws of the Commonwealth of Kentucky, for violations of the National Emission Standards for Hazardous Air Pollutants for Secondary Aluminum Production as set forth in 40 CFR part 63, Subparts A and RRR and the Title V permit provisions of the CAA, 42 U.S.C. 7661a(a), occurring at Logan Aluminum's Russellville, Kentucky secondary aluminum facility.

The proposed Consent Decree requires Logan Aluminum to perform work in a timely fashion to come into full compliance with the above laws and regulations, and pay a civil penalty in the amount of $285,000.

For a period of 30 days from the date of this publication, the Department of Justice will receive comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611. Comments should refer to: United States of America et al. v. Logan Aluminum, Inc., DJ # 90-5-2-1-08632.

The proposed Consent Decree may be examined on the following Department of Justice Web site, http://www.usdoj.gov/enrd/Consent_Decrees.html. Copies of the proposed Consent Decree may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the proposed Consent Decree, please enclose a check in the amount of $8.00 for a copy exclusive of signature pages (25 cent per page reproduction cost) or $9.00 for a copy including signature pages (25 cent per page reproduction cost), payable to the U.S. Treasury, or, if by e-mail or fax, forward a check in that amount to the Consent Decree Library at the stated address.

Maureen Katz,
Assistant Section Chief, Environmental Enforcement Section, Environment and Natural Resources Division.

[FR Doc. 2010-31392 Filed 12-14-10; 8:45 am]

BILLING CODE 4410-15-P